DEPARTMENT OF DEFENSE

Department of the Army

[Docket ID: USA-2024-HQ-0013]

Proposed Collection; Comment Request

AGENCY: Department of the Army, Department of Defense (DoD).

ACTION: 60-Day information collection notice.

SUMMARY: In compliance with the Paperwork Reduction Act of 1995, the U.S. Army Public Health Center announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by October 4, 2024.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Mailbox #24, Suite 05F16, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to the U.S. Army Public Health Center, 8252 Blackhawk Road, ATTN: Joyce Woods, (MCHB-PHI-PMD), Aberdeen Proving Ground, MD 21010-5403, or call the Department of the Army Reports Clearance Officer at (703) 428-6440.

SUPPLEMENTARY INFORMATION:

Title; Associated Form; and OMB Number: Application for Temporary Food Establishment; DD Form 2970; OMB Control Number 0702-0132.

Needs and Uses: The information collection requirement is necessary for the installation Preventive Medicine or Public Health Activity to evaluate a food vendor's ability to prepare and dispense safe food on the installation. The DD Form 2970, submitted one time by a food vendor requesting to operate a food establishment on a military installation, characterizes the types of foods, daily volume of food, supporting food equipment, and sanitary controls. Approval to operate the food establishment is determined by the installation's medical authority; the Preventive Medicine or Public Health Activity conducts an operational assessment based on the food safety criteria prescribed in the Tri-Service Food Code (TB MED 530/NAVMED P-5010-1/AFMAN 48-147_IP). Food vendors who are deemed inadequately prepared to provide safe food service are disapproved for operating on the installation.

Affected Public: Business or other for-profit; Not-for-profit institutions.

Annual Burden Hours: 23.

Number of Respondents: 91.

Responses per Respondent: 1.

Annual Responses: 91.

Average Burden per Response: 15 minutes.

Frequency: On occasion.

Dated: July 30, 2024.
Aaron T. Siegel,
Alternate OSD Federal Register Liaison Officer, Department of Defense.

[FR Doc. 2024-17164 Filed 8-2-24; 8:45 am]

BILLING CODE 6001-FR-P